SECURITIES AND EXCHANGE COMMISSION

[Release No. 34-97235; File No. SR-CBOE-2022-057]

Self-Regulatory Organizations; Cboe Exchange, Inc.; Notice of Withdrawal of Proposed Rule Change To Increase the Position and Exercise Limits for Options on Apple Inc. Stock (“AAPL”)

March 31, 2023.

On November 7, 2022, Cboe Exchange, Inc. filed with the Securities and Exchange Commission (the “Commission”), pursuant to section 19(b)(1) of the Securities Exchange Act of 1934 (the “Act”),¹ and Rule 19b-4 thereunder,² a proposed rule change to increase the position and exercise limits for options on Apple Inc. stock (“AAPL”). The proposed rule change was published for comment in the Federal Register on November 25, 2022.³ The Commission received no comment letters regarding the proposed rule change.

¹ 15 U.S.C. 78s(b)(1).

² 17 CFR 240.19b-4.

³ See Securities Exchange Act Release No. 96353 (Nov. 18, 2022), 87 FR 72568.

On December 22, 2022, pursuant to section 19(b)(2) of the Act,⁴ the Commission designated a longer period within which to approve the proposed rule change, disapprove the proposed rule change, or institute proceedings to determine whether to approve or disapprove the proposed rule change.⁵ On February 22, 2023, the Commission instituted proceedings under section 19(b)(2)(B) of the Exchange Act ⁶ to determine whether to approve or disapprove the proposed rule change.⁷ On March 30, 2023, the Exchange withdrew the proposed rule change (SR-CBOE-2022-057).

⁴ 15 U.S.C. 78s(b)(2).

⁵ See Securities Exchange Act Release No. 96570 (Dec. 22, 2022), 87 FR 80212 (Dec. 29, 2022).

⁶ 15 U.S.C. 78s(b)(2)(B).

⁷ See Securities Exchange Act Release No. 96965 (Feb. 22, 2023), 88 FR 12705 (February 28, 2023).

For the Commission, by the Division of Trading and Markets, pursuant to delegated authority.⁸
⁸ 17 CFR 200.30-3(a)(12).
Sherry R. Haywood,
Assistant Secretary.

[FR Doc. 2023-07143 Filed 4-5-23; 8:45 am]

BILLING CODE 8011-01-P